DEPARTMENT OF THE INTERIOR

Bureau of Indian Affairs

Tribal Self-Governance Program Information Collection

AGENCY: Bureau of Indian Affairs, Interior.

ACTION: Proposed Agency Information Collection Activities; Comment Request.

SUMMARY: The Bureau of Indian Affairs is seeking comments from the public on an extension of an information collection from potential Self-Governance Tribes, as required by the Paperwork Reduction Act. The information collected under OMB Clearance Number, 1076-0143, will be used to establish requirements for entry into the pool of qualified applicants for self-governance, to provide information for awarding grants, and to meet reporting requirements of the Self-Governance Act.

DATES: Submit comments on or before January 27, 2003.

ADDRESSES: Written comments can be sent to William Sinclair, Office of Self-Governance, 1849 C Street, NW., Mail Stop 2548 MIB, Washington, DC 20240.

FOR FURTHER INFORMATION CONTACT: William Sinclair, (202) 219-0244.

SUPPLEMENTARY INFORMATION: You are advised that an agency may not conduct or sponsor, and a person is not required to respond to, a collection of information that does not display a valid OMB clearance number. For example, this collection is listed by OMB as 1076-0143, and it expires 03/31/2003. The response is voluntary to obtain or retain a benefit.

We are requesting comments about the proposed collection to evaluate:

(a) The accuracy of the burden hours, including the validity of the methodology used and assumptions made,

(b) The necessity of the information for proper performance of the bureau functions, including its practical utility,

(c) The quality, utility, and clarity of the information to be collected,

(d) Suggestions to reduce the burden including use of automated, electronic, mechanical, or other forms of information technology.

Please submit your comments to the person listed in the ADDRESSES section. Please note that comments, names and addresses of commentators, are open for public review during (regular business hours). If you wish your name and address withheld, you must state this prominently at the beginning of your comments. We will honor your request to the extent allowable by law.

Type of review: Renewal.

Title: Tribal Self-Governance Program, 25 CFR 1000.

Affected Entities: Tribes and tribal consortiums wishing to enter into a self-governance compact.

Size of Respondent Pool: 257.

Number of Annual Responses 257.

Hours per response: 42.

Total Annual Hours: 10,766.

Dated: November 20, 2002.
Neal A. McCaleb,
Assistant Secretary—Indian Affairs.

[FR Doc. 02-30092 Filed 11-26-02; 8:45 am]

BILLING CODE 4310-W8-P